DEPARTMENT OF ENERGY

Federal Energy Regulatory Commission

[Docket No. PF14-21-000]

Alaska Gasline Development Corporation; BP Alaska LNG, LLC; Conoco Phillips Alaska LNG Company; ExxonMobil Alaska LNG, LLC; TransCanada Alaska Midstream, LP; Notice of Intent To Prepare an Environmental Impact Statement for the Planned Alaska Lng Project and Request for Comments on Environmental Issues

The staff of the Federal Energy Regulatory Commission (FERC or Commission) will prepare an environmental impact statement (EIS) that will discuss the environmental impacts of the Alaska LNG Project involving construction and operation of facilities by Alaska Gasline Development Corporation; BP Alaska LNG, LLC; Conoco Phillips Alaska LNG Company; ExxonMobil Alaska LNG, LLC; and TransCanada Alaska Midstream, LP (Applicants) in Alaska. The Commission will use this EIS in its decision-making process to determine whether the project is in the public convenience and necessity.

This notice announces the opening of the scoping process the Commission and its cooperating agencies will use to gather input from the public and interested agencies on the project. Your input will help the Commission staff determine what issues they need to evaluate in the EIS. Understanding that affected stakeholders may include communities that depend on seasonal subsistence activities, the scoping period will remain open for an extended period, closing on December 4, 2015. This is not your only public input opportunity; please refer to the Environmental Review Process flow chart in attachment 1.

You may submit comments in written form or verbally. Further details on how to submit written comments are in the Public Participation section of this notice. In lieu of or in addition to sending written comments, the Commission invites you to attend the public scoping meetings to provide verbal and/or written comments on the project.

A schedule of the public scoping meeting dates, locations, and times will be issued in a separate notice at least one month prior to the date of the meetings.

This notice is being sent to the Commission's current environmental mailing list for this project. The environmental mailing list includes potentially affected landowners (crossed by or adjacent to the project route); landowners within 0.5 mile of compressor station sites, the gas treatment plant (GTP), and the liquefaction terminal; federal, state, and local government agencies; elected officials; environmental and public interest groups; Alaska Native tribes; local libraries and newspapers; and other interested parties. State, local, and tribal government representatives are asked to notify their constituents of this planned project and encourage them to comment on their areas of concern.

A fact sheet prepared by the FERC entitled “An Interstate Natural Gas Facility On My Land? What Do I Need To Know?” is available for viewing on the FERC Web site (www.ferc.gov). This fact sheet addresses a number of typically-asked questions, including the use of eminent domain and how to participate in the Commission's proceedings.

Summary of the Planned Project

The Applicants plan to develop, construct, and operate facilities that would commercialize the natural gas resources on Alaska's North Slope.

The Alaska LNG Project would consist of the following major facilities, associated ancillary facilities would also be needed:

GTP/Associated Pipelines:

• Three parallel treatment systems (trains) with a capacity up to 4.3 billion cubic feet per day;

• a 1-mile-long, large diameter aboveground pipeline to transport gas from the existing central gas facility to the GTP;

• a 60-mile-long 30-inch-diameter pipeline to transport gas from the Point Thomson Unit to the GTP;

• Prudhoe Bay Unit improvements to the West Dock loading and unloading facilities; and

• water reservoir, pump facilities, and a transfer line to provide water to the GTP.

Mainline facilities include:

• About 800 miles of 42-inch-diameter pipeline from the planned GTP to the planned liquefied natural gas (LNG) plant in Nikiski Alaska; and

• Eight natural gas driven compressor stations, four custody transfer meter stations, multiple pig launching/receiving ¹ stations, heater stations, cathodic protection facilities; and mainline block valves.

¹ A pipeline “pig” is an internal device to clean or inspect the pipeline. A pig launcher/receiver is an aboveground facility where pigs are inserted into or retrieved from the pipeline.

LNG Liquefaction Facilities include:

• Marine terminal facilities;

• three liquefaction trains capable of liquefying 20 million tons per year of LNG; and

• three 160,000 cubic meter storage tanks.

A number of support facilities that are not under FERC jurisdiction would also be undertaken to complete and operate the FERC jurisdictional facilities. These include:

• Updates to existing transportation infrastructure;

• gravel quarries; and

• construction camps.

The planned Alaska LNG Project would start at the GTP and generally follow the existing Trans-Alaska Pipeline System crude oil pipeline (TAPS) and adjacent highways south to Livengood, Alaska. From Livengood, the mainline would diverge from TAPS and generally head south-southwest to Trapper Creek following the Parks Highway and Beluga Highway. Then the project turns south-southeast around Viapan Lake. Finally, it crosses the Cook Inlet in the vicinity of Shorty Creek to Boulder Point on the Kenai Peninsula. A map depicting the general location of project facilities is included as attachment 2.²

² Attachments 1 (Process Flow Chart), 2 (General Location Map), and 3 (Mailing List/Environmental Document Request Form) are not being printed in the Federal Register. Copies are available on the Commission's Web site (www.ferc.gov) at the “eLibrary” link or from the Commission's Public Reference Room at 202-502-8371. For instructions on connecting to eLibrary, refer to the “Availability of Additional Information” section at the end of this notice. The General Project Map and Mailing List/Environmental Document Request Form were sent to all those receiving this notice in the mail.

The Applicants anticipate starting construction in 2018 or early 2019, with construction and startup taking approximately seven years. On this basis, the planned project system would be placed into service about 2025-2026.

Land Requirements for Construction

The planned Alaska LNG Project facilities current design includes about 30,000 acres of land that would be temporarily impacted during construction, with about half of those acres within the permanent (or operational) right-of-way.

The EIS Process

The National Environmental Policy Act (NEPA) requires the Commission to take into account the environmental impacts that could result from an action whenever it considers the issuance of an Authorization under Section 3 of the Natural Gas Act. NEPA also requires us ³ to identify and address concerns the public may have about proposals. This process is referred to as “scoping.” The main goal of the scoping process is to focus the analysis in the EIS on important environmental issues. By this notice, the Commission requests public comments on the scope of the issues to be addressed in the EIS. All comments received during the scoping period will be considered during the preparation of the EIS.

³ “We,” “us,” and “our” refer to the environmental staff of the FERC's Office of Energy Projects.

In the EIS, we will discuss impacts that could occur as a result of the construction and operation of the planned project under the following general headings:

• Geology and soils;

• water resources, fisheries, and wetlands;

• vegetation and wildlife;

• endangered and threatened species;

• cultural resources;

• socioeconomics and subsistence;

• land use, recreation, and visual resources;

• air quality and noise;

• public health and safety; and

• cumulative impacts.

We will also evaluate possible alternatives to the planned project or portions of the project, and make recommendations on how to lessen or avoid impacts on the various resources.

Although no formal application has been filed, we have already initiated our NEPA review under the FERC's pre-filing process.⁴ The purpose of the pre-filing process is to encourage early involvement of interested stakeholders and to identify and resolve issues before an application is filed with the FERC. As part of our pre-filing review, we have already started to meet with the Applicants, jurisdictional agencies, Alaska Native tribes, local officials, and other interested stakeholders to discuss the project and identify issues/impacts and concerns before the FERC receives an application. In addition, with this NOI, we are formally initiating government-to-government consultation with federally-recognized Alaska Native tribes.

⁴ The FERC granted the Applicants' request to begin the pre-filing process on September 12, 2014.

We participated in 14 public open house meetings in Alaska hosted by the Applicants in October 2014 through January 2015. Additionally, we have begun meeting with interested state and federal agencies to discuss their possible involvement in the scoping process and the preparation of the EIS.

Our independent analysis of the issues will be presented in the EIS. The draft EIS will be published and distributed for a 45-day public review and comment period. We will consider all timely comments and revise the document, as necessary, before issuing a final EIS. To ensure your comments are considered, please carefully follow the instructions in the Public Participation section of this notice.

With this notice, we are asking agencies with jurisdiction and/or state-wide special expertise with respect to environmental issues to formally cooperate with us in the preparation of the EIS. Cooperating agencies will be expected to provide project-wide perspectives on environmental issues. These agencies may choose to participate once they have evaluated the proposal relative to their responsibilities. Agencies that would like to request cooperating agency status should follow the instructions for filing comments provided under the Public Participation section of this notice.

The FERC is the lead federal agency in preparing the EIS to satisfy the requirements of NEPA. In accordance with the 2004 Interagency Agreement on the safety and security review of waterfront import/export LNG facilities, the U.S. Coast Guard and U.S. Department of Transportation will participate as cooperating agencies. Further, under our 2002 Memorandum of Understanding ⁵ with the U.S. Army Corps of Engineers (COE), U.S. Bureau of Land Management (BLM), and U.S. Department of Energy (DOE), these permitting agencies will participate as cooperating agencies in the preparation of the EIS to satisfy their NEPA responsibilities.

⁵ The Interagency Agreement on Early Coordination of Required Environmental and Historic Preservation Reviews Conducted in Conjunction with the Issuance of Authorizations to Construct and Operate Interstate Natural Gas Pipelines Certificated by the Federal Energy Regulatory Commission was put into place in May of 2002.

The COE has jurisdictional authority pursuant to Section 404 of the Clean Water Act, which governs the discharge of dredged or fill material into waters of the United States, and Section 10 of the Rivers and Harbors Act, which regulates any work or structures that potentially affect the navigability of a waterway.

Under Section 3 of the Natural Gas Act, Title 15 of the U.S. Code, Part 717b, the DOE would authorize the export of natural gas, including LNG, to countries with which the United States has not entered into a free trade agreement requiring national treatment for trade in natural gas, unless it finds that the proposed export will not be consistent with the public interest. For the Project, the purpose and need for DOE's action is to respond to the Alaska LNG application, filed with DOE on July 18, 2014 (FE Docket No. 14-96-LNG) seeking authorization to export domestic natural gas as LNG for a 30-year term commencing the earlier of the date of first export or 12 years from the date that the requested authorization is granted. DOE's authorization of the Alaska LNG application would allow the export of LNG to any country with the capacity to import LNG and with which trade is not prohibited by U.S. law or policy.

The BLM must issue a permit because the project would cross federally administered lands in Alaska. As a cooperating agency, the BLM would adopt the EIS per Title 40 of the Code of Federal Regulations, Part 1506.3 to meet its responsibilities under NEPA regarding the Applicants' application for a Right-of-Way Grant and Temporary Use Permit for crossing federally administered lands. Impacts on resources and programs, and the proposed project's conformance with land use plans, will be considered in the BLM's decision.

Currently Identified Environmental Issues

We have already identified a number of issues that we think deserve attention based on the public open houses, interagency meetings, and our review of the information provided by the Applicants. This preliminary list of issues may be changed based on your comments and our analysis.

• Permafrost, Soils, and Reclamation

—Construction limitations and slope stabilization in steep terrain and permafrost.

—Potential for problematic reclamation due to poor soils and permafrost conditions.

—Material, design, and operations and maintenance procedures/specifications for permafrost and subsidence locations for installation and on-going future maintenance and integrity management.

—Potential for introduction or spread of invasive and/or noxious species of vegetation during and after construction.

• Cultural Resources

—Impacts on traditional Alaska Native culture, historic sites, and landscapes.

• Water Resources and Wetlands

—Effects of construction and operation on waterbodies and wetlands.

—Effects of dredging, dock construction, and dumping dredged material into ocean waters.

• Fish, Wildlife, Vegetation, and Sensitive Species

—Effects of project construction on fish and wildlife and their habitat, including federally listed threatened and endangered species, marine mammals, migratory birds, and big game species.

—Effects of water depletion from hydrostatic test water withdrawals and ice road construction.

• Seismic Activity and Geohazards

—Pipeline and facility design in seismically active areas.

—Construction in geohazard areas.

• Land Use, Recreation, and Special Interest Areas

—Impacts on potential wilderness areas.

—Impacts on existing conservation system units (e.g., Denali National Park).

—Private land crossings.

—Impacts on recreation (e.g., fishing, hunting, boating, camping, hiking, skiing, mushing, and snowmachining).

• Socioeconomics

—Effects of construction workforce demands on public services and temporary housing.

—Economic impacts on local communities.

—Environmental Justice.

• Subsistence and Public Health

—Effects of construction and operation on fish, wildlife, marine mammal, and plant species used for subsistence.

—Impacts on access to subsistence resources.

—Health impacts on local communities.

• Air Quality and Noise

• Reliability and Safety

• Cumulative Impacts

Consultations Under Section 106 of the National Historic Preservation Act

In accordance with the Advisory Council on Historic Preservation's implementing regulations for section 106 of the National Historic Preservation Act, we are using this notice to initiate consultation with applicable State Historic Preservation Office(s) (SHPO), and to solicit their views and those of other government agencies, interested Indian tribes, and the public on the project's potential effects on historic properties.⁶ We will define the project-specific Area of Potential Effects (APE) in consultation with the SHPO as the project develops. On natural gas facility projects, the APE at a minimum encompasses all areas subject to ground disturbance (examples include construction right-of-way, contractor/pipe storage yards, compressor stations, and access roads). Our EIS for this project will document our findings on the impacts on historic properties and summarize the status of consultations under section 106.

⁶ The Advisory Council on Historic Preservation regulations are at Title 36, Code of Federal Regulations, Part 800. Those regulations define historic properties as any prehistoric or historic district, site, building, structure, or object included in or eligible for inclusion in the National Register of Historic Places.

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before December 4, 2015. This is not your only public input opportunity; please refer to the Environmental Review Process flowchart in attachment 1.

For your convenience, there are three methods you can use to submit your comments to the Commission. In all instances, please reference the project docket number (PF14-21-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

In addition to the methods listed above, we will also hold public scoping meetings and mail notices to our environmental mailing list identifying the date, time, and locations of these meetings later this year.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

Copies of the completed draft EIS will be sent to the environmental mailing list for public review and comment. If you would prefer to receive a paper copy of the document instead of the CD version, or would like to remove your name from the mailing list, please return the attached Information Request (attachment 3).

Becoming an Intervenor

Once the Applicants file its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF14-21). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Further, public meetings or site visits will be posted on the Commission's calendar located at www.ferc.gov/EventCalendar/EventsList.aspx along with other related information. Finally, additional information about the project can be seen from the Applicant's Web site at http://ak-lng.com.

Dated: March 4, 2015.
Kimberly D. Bose,
Secretary.

[FR Doc. 2015-05691 Filed 3-12-15; 8:45 am]

BILLING CODE 6717-01-P